DEPARTMENT OF TRANSPORTATION

Federal Aviation Administration

14 CFR Part 39

[Docket No. FAA-2015-8695; Directorate Identifier 2015-SW-042-AD; Amendment 39-18365; AD 2016-01-06]

RIN 2120-AA64

Airworthiness Directives; Agusta S.p.A. Helicopters

AGENCY: Federal Aviation Administration (FAA), Department of Transportation (DOT).

ACTION: Final rule; request for comments.

SUMMARY: We are adopting a new airworthiness directive (AD) for Agusta S.p.A. (Agusta) Model AB139 and AW139 helicopters. This AD requires inspecting each full ice protection system tail rotor slip ring (slip ring) for chatter marks, witness marks, or scoring, and determining the depth of each mounting hole. Based on the findings from the inspection, this AD requires either re-identifying the slip ring or replacing the slip ring. This AD is prompted by two incidents of the slip ring body separating from the supporting flange due to improper torque. These actions are intended to prevent separation of the mounting flange from the slip ring body and subsequent loss of control of the helicopter.

DATES: This AD becomes effective January 28, 2016.

The Director of the Federal Register approved the incorporation by reference of a certain document listed in this AD as of January 28, 2016.

We must receive comments on this AD by March 14, 2016.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2015-8695; or in person at the Docket Operations Office between 9 a.m. and 5 p.m., Monday through Friday, except Federal holidays. The AD docket contains this AD, the European Aviation Safety Agency (EASA) AD, any incorporated by reference service information, the economic evaluation, any comments received, and other information. The street address for the Docket Operations Office (telephone 800-647-5527) is in the ADDRESSES section. Comments will be available in the AD docket shortly after receipt.

For service information identified in this final rule, contact AgustaWestland, Product Support Engineering, Via del Gregge, 100, 21015 Lonate Pozzolo (VA) Italy, ATTN: Maurizio D'Angelo; telephone 39-0331-664757; fax 39-0331-664680; or at http://www.agustawestland.com/technical-bulletins; and Moog Inc., Components Group, Blacksburg Operations, 1213 North Main St., Blacksburg, Virginia 24606-3127, telephone (540) 552-3011, or at www.moog.com. You may review the referenced service information at the FAA, Office of the Regional Counsel, Southwest Region, 10101 Hillwood Pkwy, Room 6N-321, Fort Worth, TX 76177.

FOR FURTHER INFORMATION CONTACT: Martin R. Crane, Aviation Safety Engineer, Safety Management Group, Rotorcraft Directorate, FAA, 10101 Hillwood Pkwy, Fort Worth, TX 76177; telephone (817) 222-5110; email martin.r.crane@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

We are adopting a new AD for Agusta Model AB139 and AW139 helicopters with certain slip rings installed. This AD requires inspecting each slip ring for chatter marks, witness marks, or scoring. Based on the findings from the inspection, the AD requires either re-identifying the slip ring by marking a letter “T” after the serial number or replacing the slip ring with a slip ring that is not affected by this AD. This AD is prompted by two reports of detached slip ring bodies from the supporting flange due to improperly low torque of the affected screws during installation. These actions are intended to prevent separation of the mounting flange from the slip ring body and subsequent loss of control of the helicopter.

This AD was prompted by AD No. 2015-0155, dated July 28, 2015, issued by EASA, which is the Technical Agent for the Member States of the European Union, to correct an unsafe condition for the Agusta Model AB139 and AW139 helicopters. EASA advises of two incidents of the screws being found loose and broken on two Model AW139 helicopter tail rotor slip rings. EASA states that subsequent technical investigation revealed that the torque of the screws was improperly low. The slip ring manufacturer established that this occurred on the production line by improper installation of the affected screws on a number of slip rings. EASA advises that this condition, if not detected and corrected, could lead to other events of detachment of the slip ring, possibly resulting in reduced control of the helicopter.

FAA's Determination

These helicopters have been approved by the aviation authority of Italy and are approved for operation in the United States. Pursuant to our bilateral agreement with Italy, EASA, its technical representative, has notified us of the unsafe condition described in the EASA AD. We are issuing this AD because we evaluated all information provided by EASA and determined the unsafe condition exists and is likely to exist or develop on other helicopters of these same type designs.

Related Service Information Under 1 CFR Part 51

We reviewed AgustaWestland Bollettino Technico No. 139-404, dated December 22, 2014 (BT), including Annex A Moog Service Bulletin SB 14-02, Revision D, undated (Moog SB). The BT specifies inspecting and replacing the slip ring mounting screws and reinstalling the lockwire by complying with the Moog SB. The Moog SB advises of insufficient torqueing of the screws and incorrect lock wiring used to affix the tail rotor mountain plate to the slip ring frame. If the slip ring does not pass the inspection, the BT specifies returning the slip ring to AgustaWestland, replacing it, and marking the letter “T” after the serial number of the unit. AgustaWestland states that slip rings already marked with a “T” after the serial number or “MOD 1” marked in the manufacturing plate do not have to be inspected. This service information is reasonably available because the interested parties have access to it through their normal course of business or by the means identified in the ADDRESSES section.

AD Requirements

This AD requires within 25 hours time-in-service:

• Removing each slip ring, lockwire, fastener, and washer.

• Inspecting the wall of the mounting plate hole for a chatter mark, witness mark, or scoring. If there is a chatter mark, witness mark, or scoring, replacing the slip ring with an airworthy slip ring.

• Determining the depth of the mounting plate hole. If the depth exceeds the grip length of the screw, replacing the slip ring with an airworthy slip ring.

• Re-identifying the slip ring by marking a letter “T” after the serial number with permanent black pen and applying acrylic lacquer (CO81 or equivalent).

This AD also prohibits installing an affected slip ring on any helicopter unless the slip ring has passed the inspections in accordance with this AD.

Differences Between This AD and the EASA AD

This AD requires compliance within 25 hours time-in-service; the EASA AD requires compliance within 14 days.

Costs of Compliance

We estimate that this AD will affect 106 helicopters of U.S. Registry. We estimate that operators may incur the following costs in order to comply with this AD. Labor costs are estimated at $85 per work hour. We estimate 3 work hours to inspect the slip ring for a cost of $255 per helicopter and $27,030 for the fleet. We estimate $56,806 in required parts and no additional labor costs to replace a slip ring.

FAA's Justification and Determination of the Effective Date

Providing an opportunity for public comments before adopting these AD requirements would delay implementing the safety actions needed to correct this known unsafe condition. Therefore, we found that the risk to the flying public justifies waiving notice and comment prior to the adoption of this rule because the previously described unsafe condition can adversely affect the controllability of the helicopter and the required corrective actions must be accomplished within 25 hours TIS. These helicopters have a variety of uses including offshore and emergency medical flights and are expected to accumulate 25 hours TIS within a few weeks.

Since an unsafe condition exists that requires the immediate adoption of this AD, we determined that notice and opportunity for public comment before issuing this AD are impracticable and contrary to the public interest and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-01-06 Agusta S.p.A.: Amendment 39-18365; Docket No. FAA-2015-8695; Directorate Identifier 2015-SW-042-AD.

(a) Applicability

This AD applies to Model AB139 and AW139 helicopters, certificated in any category, with a Full Icing Protection System tail rotor slip ring (slip ring) part number (P/N) 4G6420V00151, P/N 4G6420V00152, or P/N 4G6420V00153 installed, except a slip ring with a letter “T” after the serial number or marked with “MOD 1.”

(b) Unsafe Condition

This AD defines the unsafe condition as a loose or missing screw connecting the mounting flange and the slip ring body. This condition could result in separation of the mounting flange from the slip ring body and subsequent loss of control of the helicopter.

(c) Effective Date

This AD becomes effective January 28, 2016.

(d) Compliance

You are responsible for performing each action required by this AD within the specified compliance time unless it has already been accomplished prior to that time.

(e) Required Actions

Within 25 hours time-in-service:

(1) Remove each slip ring from the helicopter. Remove each lockwire, fastener, and washer by following the Compliance Instructions, paragraphs 3 through 5, of Moog Service Bulletin SB 14-02, Revision D, undated, included as Annex A to Agusta Westland Bollettino Tecnico (BT) No. 139-404, dated December 22, 2014, except you are not required to discard parts.

(2) Inspect the wall of the mounting plate hole for a chatter mark, witness mark, or scoring. If there is a chatter mark, witness mark, or scoring, replace the slip ring with a slip ring that is not listed in paragraph (a) of this AD.

(3) Determine the depth of the mounting plate hole. If the depth exceeds the grip length of the screw, replace the slip ring with a slip ring that is not listed in paragraph (a) of this AD.

(4) Re-identify the slip ring by marking a letter “T” after the serial number with permanent black pen and applying acrylic lacquer (CO81 or equivalent).

(5) Do not install an affected slip ring on any helicopter unless the slip ring has passed the inspections in accordance with this AD.

(f) Alternative Methods of Compliance (AMOCs)

(1) The Manager, Safety Management Group, FAA, may approve AMOCs for this AD. Send your proposal to: Martin R. Crane, Aviation Safety Engineer, Safety Management Group, Rotorcraft Directorate, FAA, 10101 Hillwood Pkwy, Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2015-0155, dated July 28, 2015. You may view the EASA AD on the Internet at http://www.regulations.gov by searching for and locating it in Docket No. FAA-2015-8695.

(h) Subject

Joint Aircraft Service Component (JASC) Code: 3060 Propeller/Rotor Anti-ice/De-Ice System.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) AgustaWestland Bollettino Technico No. 139-404, dated December 22, 2014, including Annex A, Moog Service Bulletin SB 14-02, Revision D, undated.

(ii) Reserved.

(3) For service information identified in this AD, contact Moog Inc., Components Group, Blacksburg Operations, 1213 North Main St., Blacksburg, Virginia 24606-3127, telephone 540/552-3011, or at www.moog.com.

(4) You may view this service information at FAA, Office of the Regional Counsel, Southwest Region, 10101 Hillwood Pkwy, Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on December 28, 2015.
Lance T. Gant,
Manager, Rotorcraft Directorate, Aircraft Certification Service.

[FR Doc. 2016-00013 Filed 1-12-16; 8:45 am]

BILLING CODE 4910-13-P